FARM CREDIT SYSTEM INSURANCE CORPORATION

Board of Directors Meeting

SUMMARY: Notice of the forthcoming regular meeting of the Board of Directors of the Farm Credit System Insurance Corporation (FCSIC), is hereby given in accordance with the provisions of Article VI of the Bylaws of the FCSIC.

DATES: 10:00 a.m., Wednesday, March 9, 2022.

ADDRESSES: Because of the COVID-19 pandemic and the current operating status of the FCSIC, the public may only virtually observe the open portions of this meeting. If you would like to virtually observe, at least 24 hours in advance, visit FCSIC.gov, select “News & Events,” and then select “Board Meetings.” From there, access the linked “Instructions for board meeting visitors” and complete the described registration process.

FOR FURTHER INFORMATION CONTACT: If you need more information or assistance for accessibility reasons, or if you have questions, contact Ashley Waldron, Secretary to the Board. Telephone: 703-883-4009. TTY: 703-883-4056.

SUPPLEMENTARY INFORMATION:

Status: Parts of this meeting will be open to the public. The rest of the meeting will be closed to the public.

Matters To Be Considered:

Portions Open to the Public

• Approval of January 27, 2022, Minutes

• Quarterly FCSIC Financial Reports

• Quarterly Report on Insured Obligations

• Quarterly Report on Annual Performance Plan

• Annual Report on Investment Portfolio

• Presentation of 2021 Audit Results

Portions Closed to the Public

• Quarterly Report on Insurance Risk

• Executive Session of the FCSIC Board Audit Committee with the External Auditor

Ashley Waldron,
Secretary to the Board.

[FR Doc. 2022-04310 Filed 3-1-22; 8:45 am]

BILLING CODE 6705-01-P